DEPARTMENT OF AGRICULTURE

Forest Service

Wilderness Evaluation Direction for National Forest System Land Management Planning

AGENCY: Forest Service, USDA.

ACTION: Notice of issuance of interim directive.

SUMMARY: The Forest Service has issued an interim directive (ID) 1902.2-2005-10 to Forest Service Handbook 1909.12, section 71.12, to guide agency employees in identifying and evaluating potential wilderness areas during land management planning. This ID revises ID 1902.12-2005-8, issued March 23, 2005.

DATES: ID 1902.12-2005-10 was effective on July 26, 2005.

ADDRESSES: ID 1902.12-2005-10 is available electronically from the Forest Service via the World Wide Web/Internet at http://www.fs.fed.us/im/directives or at http://www.fs.fed.us/emc/nfma/index.htm. You may request a compact disc (CD) copy of the ID by contacting Regis Terney by email (rterney@fs.fed.us) or by phone at 1-866-235-6652 or 202-205-1552.

FOR FURTHER INFORMATION CONTACT: Regis Terney, Planning Specialist, Ecosystem Management Coordination Staff, Forest Service (202) 205-1552.

SUPPLEMENTARY INFORMATION: Direction in the parent text to Forest Service Handbook 1909.12, section 7.11b (parent text is coded as a 1-digit chapter, while IDs 1909.12-2005-8 and 1909.12-2005-10 are coded as 2-digit chapters) provided (in paragraph 4) that “The location of the area is conducive to the perpetuation of wilderness values. Consider the relationship of the area to sources of noise, air, and water pollution, as well as unsightly conditions that would have an effect on the wilderness experience.

The amount and pattern of Federal ownership is also an influencing factor.” This direction was mistakenly left out of ID 1909.12-2005-8. The issuance of ID 1909.12-2005-10 incorporates this direction back into ID 1909.12-2005-8, section 71.12, as a new paragraph 4 and renumbers previous paragraphs 4 through 7 as paragraphs 5 through 8 respectively.

Dated: July 27, 2005.
Dale N. Bosworth,
Chief.

[FR Doc. 05-15573 Filed 8-5-05; 8:45 am]

BILLING CODE 3410-11-P